DEPARTMENT OF THE INTERIOR

National Indian Gaming Commission

25 CFR Parts 502, 546, and 547

Class II Definitions and Gaming Standards and Technical Standards

AGENCY: National Indian Gaming Commission, Interior

ACTION: Notice of reopening of comment period.

SUMMARY: This notice reopens the period for comments on proposed Class II definitions and game classification standards published in the Federal Register on May 25, 2006 (71 FR 30232, 71 FR 30238). This notice also reopens the period for comments on proposed Class II technical standards published in the Federal Register on August 11, 2006 (71 FR 46336).

DATES: The comment period for the proposed classification, definition, and technical regulations is being reopened from November 15, 2006, to December 15, 2006.

FOR FURTHER INFORMATION CONTACT: Penny Coleman, John Hay, or Michael Gross at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On May 25, 2006, proposed Class II definitions and game classification standards were published in the Federal Register (71 FR 30232, 71 FR 30238). On August 11, 2006, proposed Class II technical standards were published in the Federal Register (71 FR 46336).

Dated: December 4, 2006.
Philip N. Hogen,
Chairman, National Indian Gaming Commission.
Cloyce V. Choney,
Commissioner, National Indian Gaming Commission.

[FR Doc. E6-20843 Filed 12-7-06; 8:45 am]

BILLING CODE 7565-01-P